DEPARTMENT OF DEFENSE

Office of the Secretary

Notice of Closed Meeting

AGENCY: Department of Defense, Defense Intelligence Agency National Defense Intelligence College.

ACTION: Notice of closed meeting.

SUMMARY: Pursuant to the provisions of Subsection (d) of Section 10 of Public Law 92-463, as amended by Section 5 of Public Law 94-409, notice is hereby given that a closed meeting of the DIA National Defense Intelligence College Board of Visitors has been scheduled as follows:

DATES: Tuesday, 5 June 2007, 0800 to 1700; and Wednesday, 6 June 2007, 0800 to 1200.

ADDRESSES: National Defense Intelligence College, Washington, DC 20340-5100.

FOR FURTHER INFORMATION CONTACT: Mr. A. Denis Clift, President, DIA National Defense Intelligence College, Washington, DC 20340-5100 (202/231-3344).

SUPPLEMENTARY INFORMATION: The entire meeting is devoted to the discussion of classified information as defined in Section 552b(c)(1), Title 5 of the U.S. Code and therefore will be closed. The Board will discuss several current critical intelligence issues and advise the Director, DIA, as to the successful accomplishment of the mission assigned to the National Defense Intelligence College.

Dated: April 19, 2007.
L.M. Bynum,
Alternate OSD Federal Register Liaison Officer, DoD.

[FR Doc. 07-2021 Filed 4-24-07; 8:45 am]

BILLING CODE 5001-06-M